DEPARTMENT OF HEALTH AND HUMAN SERVICES

National Institutes of Health

National Institute of Neurological Disorders and Stroke; Amended Notice of Meeting

Notice is hereby given of a change in the meeting of the National Institute of Neurological Disorders and Stroke Special Emphasis Panel, March 19, 2024, 9 a.m. to March 19, 2024, 6 p.m., National Institutes of Health, Neuroscience Center, 6001 Executive Boulevard, Rockville, MD 20852, which was published in the Federal Register on February 23, 2024, FR Doc 2024-03818, 89 FR 14080.

This notice is being amended to change the date of this one-day meeting to a two-day meeting March 19, 2024, to March 20, 2024. The meeting time remains the same. The meeting is closed to the public.

Dated: February 29, 2024.
Lauren A. Fleck,
Program Analyst, Office of Federal Advisory Committee Policy.

[FR Doc. 2024-04592 Filed 3-4-24; 8:45 am]

BILLING CODE 4140-01-P